Federal Trade Commission

Granting of Requests for Early Termination of the Waiting Period Under the Premerger Notification Rules

Section 7A of the Clayton Act, 15 U.S.C. 18a, as added by Title II of the Hart-Scott- Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted June 1, 2019 Thru June 30, 2019
06/03/2019
20191340 | G | Mitsubishi Electric Corporation; Russell L. Agrusa; Mitsubishi Electric Corporation.
20191359 | G | Ding Shui Po; Song Soo Park; Ding Shui Po.
20191362 | G | New Mountain Partners V, L.P.; W20 Holdings, LP; New Mountain Partners V, L.P.
20191370 | G | Chart Industries, Inc.; Harsco Corporation; Chart Industries, Inc.
20191371 | G | Harsco Corporation; Compass Diversified Holdings; Harsco Corporation.
20191372 | G | Hitachi, Ltd.; Crestview Partners III, L.P.; Hitachi, Ltd.
20191384 | G | Occidental Petroleum Corporation; Anadarko Petroleum Corporation; Occidental Petroleum Corporation.
20191387 | G | RCP Artemis Co-Invest, L.P.; Lightyear Fund III, L.P.; RCP Artemis Co-Invest, L.P.
20191389 | G | Stone Canyon Industries Holdings LLC; Centerbridge Capital Partners II, L.P.; Stone Canyon Industries Holdings LLC.
20191391 | G | Franciscan Missionaries of Our Lady Health System, Inc.; St. Dominic Health Services, Inc.; Franciscan Missionaries of Our Lady Health System, Inc.
20191395 | G | Summit Partners Growth Equity Fund IX-A, L.P.; Andrew Bialecki; Summit Partners Growth Equity Fund IX-A, L.P.
20191405 | G | KIA X (Watchtower), L.P.; Lovell Minnick Equity Partners IV LP; KIA X (Watchtower), L.P.
06/04/2019
20181978 | G | Amcor Limited; Bemis Company, Inc.; Amcor Limited.
20190985 | G | Marfrig Global Foods S.A.; Sysco Corporation; Marfrig Global Foods S.A.
20191369 | G | Elliott International Limited; Affinion Group Holdings, Inc.; Elliott International Limited.
20191390 | G | Equinor ASA; Royal Dutch Shell plc; Equinor ASA.
06/05/2019
20191323 | G | Benjamin Horowitz; Okta, Inc; Benjamin Horowitz.
20191396 | G | Eagle Parent Holdings, LLC; Amber Road, Inc.; Eagle Parent Holdings, LLC.
06/07/2019
20191406 | G | Thoma Bravo Discover Fund II Global L.P.; Wells Fargo & Company; Thoma Bravo Discover Fund II Global L.P.
20191409 | G | FirstService Corporation; Delos Investment Fund, L.P.; FirstService Corporation.
20191410 | G | JPMorgan Chase & Co.; InstaMed Holdings, Inc.; JPMorgan Chase & Co.
20191413 | G | Informa plc; IHS Markit Ltd.; Informa plc.
20191416 | G | Vista Equity Partners Fund VII-A, L.P.; Trident VI, L.P.; Vista Equity Partners Fund VII-A, L.P.
20191426 | G | Wells Fargo & Company; Mark S. Moussa; Wells Fargo & Company.
20191440 | G | Evolent Health, Inc.; University Health Care, Inc.; Evolent Health, Inc.
06/10/2019
20191415 | G | Milliken & Company; Versa Capital Fund I, L.P.; Milliken & Company.
20191419 | G | Amit Bhandari; Karman D. Parker; Amit Bhandari.
06/11/2019
20191328 | G | Hellman & Friedman Capital Partners VIII, L.P.; Control4 Corporation; Hellman & Friedman Capital Partners VIII, L.P.
20191404 | G | Roger S. Penske; Adam Buzz Warner; Roger S. Penske.
20191411 | G | Trilantic Capital Partners VI (North America) L.P.; Oaktree Power Opportunities Fund III, L.P.; Trilantic Capital Partners VI (North America) L.P.
20191446 | G | Fortive Corporation; IT Parent Holdco Ltd.; Fortive Corporation.
06/12/2019
20191325 | G | Sinocare Inc.; Shenzhen Xinnuo Health Industry Investment Limited; Sinocare Inc.
20191436 | G | CCP X No. 2 LP; Tarsus Group plc; CCP X No. 2 LP.
06/13/2019
20191423 | G | KPS Special Situations Fund IV, LP; Colfax Corporation; KPS Special Situations Fund IV, LP.
06/14/2019
20191442 | G | Pamlico Capital IV, L.P.; Dr. David W. Shoemaker; Pamlico Capital IV, L.P.
20191448 | G | Joseph Mansueto; Ratings Acquisition Corp.; Joseph Mansueto.
20191454 | G | Armistice Capital Offshore Fund Ltd.; Cerecor Inc.; Armistice Capital Offshore Fund Ltd.
20191455 | G | Dr. Fritz Faulhaber GmbH & Co. KG; Ping Pan Faulhaber; Dr. Fritz Faulhaber GmbH & Co. KG.
20191456 | G | CVC Capital Partners VII (A) L.P.; Frank Vitiello; CVC Capital Partners VII (A) L.P.
20191457 | G | Pivotal Acquisition Corp.; CEOF II DE I AIV, L.P.; Pivotal Acquisition Corp.
20191459 | G | Rhone Partners V L.P.; Schlumberger N.V. (Schlumberger Limited); Rhone Partners V L.P.
20191462 | G | RF Parent, Inc.; Recorded Future, Inc.; RF Parent, Inc.
20191464 | G | Golden Gate Capital Opportunity Fund, L.P.; Bon Secours Mercy Health; Golden Gate Capital Opportunity Fund, L.P.
20191465 | G | Palo Alto Networks, Inc.; Twistlock Ltd.; Palo Alto Networks, Inc.
20191472 | G | West Street Capital Partners VII, L.P.; MED ParentCo, LP; West Street Capital Partners VII, L.P.
20191475 | G | Thomas H. Lee Parallel Fund VIII, L.P.; Francisco Partners III (Domestic AIV), L.P.; Thomas H. Lee Parallel Fund VIII, L.P.
20191477 | G | GI Partners Fund V LP; Huskies Parent, Inc.; GI Partners Fund V LP.
20191478 | G | The Goldman Sachs Group, Inc.; United Capital Financial Partners, Inc.; The Goldman Sachs Group, Inc.
20191479 | G | Letterone Investment Holdings S.A.; ICG Europe Fund V No. 1 LP; Letterone Investment Holdings S.A.
20191480 | G | Warburg Pincus Global Growth, L.P.; Olympus Growth Fund V, L.P.; Warburg Pincus Global Growth, L.P.
20191482 | G | Leeds Equity Partners VI, L.P.; Rubicon Technology Partners II L.P.; Leeds Equity Partners VI, L.P.
20191484 | G | Gesa Credit Union; Inspirus Credit Union; Gesa Credit Union.
20191485 | G | Axel och Margaret Ax:son Johnsons stiftelse; David T. and Joanne S. Davis; Axel och Margaret Ax:son Johnsons stiftelse.
06/18/2019
20191469 | G | Nagase & Co., Ltd.; Ronald Juergens; Nagase & Co., Ltd.
20191473 | G | Valence ST LP; TCFI CP LLC; Valence ST LP.
06/19/2019
20191467 | G | Green Equity Investors Side VII, L.P.; Dr. Abram Schumacher; Green Equity Investors Side VII, L.P.
20191468 | G | Green Equity Investors Side VII, L.P.; Dr. Shikhar Saxena; Green Equity Investors Side VII, L.P.
06/20/2019
20191476 | G | Genstar Capital Partners IX, L.P.; CS Parent LLC; Genstar Capital Partners IX, L.P.
06/21/2019
20191494 | G | EQT VIII Co-Investment (D) SCSp; Nestle S.A.; EQT VIII Co-Investment (D) SCSp.
20191497 | G | Searchlight Capital II OPT Co-Invest Partners, L.P.; Frontier Communications Corporation; Searchlight Capital II OPT Co-Invest Partners, L.P.
20191502 | G | Gauge Capital II, L.P.; Schlesinger Holdings, Inc.; Gauge Capital II, L.P.
20191504 | G | H&R Block, Inc.; Wave Financial Inc.; H&R Block, Inc.
20191511 | G | SoftBank Vision Fund L.P.; Katerra Inc.; SoftBank Vision Fund L.P.
20191525 | G | Michael S.Dell; Avi Networks, Inc.; Michael S. Dell.
06/25/2019
20191427 | G | Trinity Ventures XII, L.P.; Auth0, Inc.; Trinity Ventures XII, L.P.
20191429 | G | Serco Group plc; The Veritas Capital Fund V, L.P.; Serco Group plc.
20191433 | G | TPG Growth IV, L.P.; AG Growth Capital Partners I, L.P.; TPG Growth IV, L.P.
20191470 | G | LNK Partners III, L.P.; LTF Holdings, Inc.; LNK Partners III, L.P.
20191483 | G | Michael S. Dell; LTF Holdings, Inc.; Michael S. Dell.
20191495 | G | CD Clean Energy and Infrastructure VII JV, LLC; William O. Perkins, III; CD Clean Energy and Infrastructure VII JV, LLC.
20191503 | G | Aberdeen Standard Carlsbad LP; Stonepeak Infrastructure Fund (Orion AIV) LP; Aberdeen Standard Carlsbad LP.
20191510 | G | Rubicon Technology Partners II, L.P.; The AES Corporation; Rubicon Technology Partners II, L.P.
20191519 | G | Oaktree Opportunities Fund Xb AIF, L.P; Martin Midstream Partners L.P.; Oaktree Opportunities Fund Xb AIF, L.P.
20191520 | G | Samurai Holdings, LLC; Blackstone Capital Partners VI-NQ/NF L.P.; Samurai Holdings, LLC.
06/26/2019
20191474 | G | Global Payments Inc.; Total System Services, Inc.; Global Payments Inc.
20191513 | G | Cedar Fair, L.P.; Bahn Consolidated, Inc.; Cedar Fair, L.P.
20191531 | G | Azalea Parent Holdings LP; EQT VII (No. 1) Limited Partnership; Azalea Parent Holdings LP.
06/28/2019
20191226 | G | Vista Equity Partners Fund VII-A, L.P.; VEPF IV AIV VIII, L.P.; Vista Equity Partners Fund VII-A, L.P.
20191493 | G | Lovell Minnick Equity Partners IV LP; Piper Jaffray Companies; Lovell Minnick Equity Partners IV LP.
20191535 | G | Accel-KKR Growth Capital Partners II, LP; Charles and Robin Deyo; Accel-KKR Growth Capital Partners II, LP.
20191542 | G | Unilever N.V.; Tatcha LLC; Unilever N.V.
20191545 | G | DCPF VI Oil and Gas Coinvestment Fund LP; Arkoma Drilling, L.P.; DCPF VI Oil and Gas Coinvestment Fund LP.
20191547 | G | CPP Group Holdings LLC; Warburg Pincus Private Equity X, L.P.; CPP Group Holdings LLC.
20191548 | G | Arkoma Drilling, L.P.; DCPF VI Oil and Gas Coinvestment Fund LP; Arkoma Drilling, L.P.
20191551 | G | Stewart Butterfield; Slack Technologies, Inc.; Stewart Butterfield.
20191552 | G | Accel-KKR Capital Partners V, LP; Sandata Holdings, Inc.; Accel-KKR Capital Partners V, LP.
20191555 | G | Carlyle U.S. Equity Opportunity Fund II, L.P.; Alpine Investors V, LP; Carlyle U.S. Equity Opportunity Fund II, L.P.

FOR FURTHER INFORMATION CONTACT: Theresa Kingsberry, Program Support Specialist, Federal Trade Commission Premerger Notification Office, Bureau of Competition, Room CC-5301, Washington, DC 20024, (202) 326-3100.

By direction of the Commission.
April J. Tabor,
Acting Secretary.

[FR Doc. 2019-19008 Filed 9-3-19; 8:45 am]

BILLING CODE 6750-01-P